DEPARTMENT OF ENERGY

Federal Energy Regulatory Commission

[Docket Nos. ER02-2577-000 and ER02-1767-001]

Midwest Independent Transmission System Operator, Inc.; Notice of Filing

September 24, 2002.

Take notice that, on September 13, 2002, the Midwest Independent Transmission System Operator, Inc. (Midwest ISO) tendered for filing in the above captioned dockets a proposal to: (i) withdraw its May 8, 2002 filing in Docket No. ER02-1767-000 of revisions to Attachment K of its Open Access Transmission Tariff, FERC Electric Tariff, First Revised Volume No. 1; and (ii) defer implementation of Attachment K in its entirety until the Midwest ISO energy markets are operative in December 2003.

The Midwest ISO has served copies of its filing upon each person designated on the official service list compiled by the Secretary in Docket No. ER02-1767-000. In addition, the filing has been electronically posted on the Midwest ISO's Web site at www.midwestiso.org under the heading “Filings to FERC” for other interested parties in this matter.

Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-502-8222 for assistance). Protests and interventions may be filed electronically via the Internet in lieu of paper; see 18 CFR 385.2001(a)(1)(iii) and the instructions on the Commission's Web site under the “e-Filing” link.

Comment Date: October 8, 2002.

Linwood A. Watson, Jr.,
Deputy Secretary.

[FR Doc. 02-25134 Filed 10-2-02; 8:45 am]

BILLING CODE 6717-01-P